DEPARTMENT OF COMMERCE

National Oceanic and Atmospheric Administration

[I.D. 091405C]

Pacific Fishery Management Council; Public Meetings

AGENCY: National Marine Fisheries Service (NMFS), National Oceanic and Atmospheric Administration (NOAA), Commerce.

ACTION: Notice of public meetings.

SUMMARY: The Pacific Fishery Management Council's (Council) Highly Migratory Species Management Team (HMSMT) and Ad Hoc Highly Migratory Species Management Committee (HMSMC) will hold work sessions, which are open to the public.

DATES: The HMSMT work session will be Monday, October 3, 2005, from 8 a.m. until 5 p.m. On Tuesday, October 4, 2005, beginning at 8 a.m. until business is completed, the HMSMT will hold a joint work session with the HMSMC. The HMSMT may continue its own work on Tuesday after the joint session ends, time permitting.

ADDRESSES: The work sessions will be held at the National Marine Fisheries Service, Southwest Fisheries Science Center, Large Conference Room, 8604 La Jolla Shores Drive, Room D-203, La Jolla, CA 92037, (858) 546-7000.

Council address: Pacific Fishery Management Council, 7700 NE Ambassador Place, Suite 200, Portland, Oregon 97220-1384.

FOR FURTHER INFORMATION CONTACT: Dr. Kit Dahl, Pacific Fishery Management Council (503) 820-2280.

SUPPLEMENTARY INFORMATION: The main purpose of the HMSMT work session is to further develop a preliminary range of alternatives for the modification of the annual August 15 through November 15 prohibition on drift gillnet fishing in federal and state waters in Monterey Bay, California and vicinity north to the 45 N latitude intersect with the Oregon Coast (66 FR 44549). The HMSMT discussed preliminary concepts for alternatives at their August 3-5, 2005, meeting. At this meeting they will further develop these alternatives and review available analyses. These alternatives will then be presented to the Council at their October 31-November 4, 2005, meeting, when the Council will consider adopting a range of alternatives for public review.

The purpose of the joint session of the HMSMT and HMSMC is to consider initial proposals which would allow prosecution of a pelagic longline fishery for swordfish while not increasing the overall incidental take of Endangered Species Act-listed sea turtles. These work sessions are for the purpose of developing information for the Council's consideration at a future Council meeting; no management actions will be decided by the HMSMT or HMSMC at these work sessions.

Although nonemergency issues not contained in the meeting agendas may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Ms. Carolyn Porter at (503) 820-2280 at least five days prior to the meeting date.

Dated: September 14, 2005.
Alan D. Risenhoover,
Acting Director, Office of Sustainable Fisheries, National Marine Fisheries Service.

[FR Doc. E5-5123 Filed 9-19-05; 8:45 am]

BILLING CODE 3510-22-S